DEPARTMENT OF ENERGY

Federal Energy Regulatory Commission

[Project No. 2445-028]

Green Mountain Power Corporation; Notice Soliciting Scoping Comments

Take notice that the following hydroelectric application has been filed with the Commission and is available for public inspection.

a. Type of Application: Subsequent Minor License.

b. Project No.: 2445-028.

c. Date Filed: December 23, 2021.

d. Applicant: Green Mountain Power Corporation (GMP).

e. Name of Project: Center Rutland Hydroelectric Project (project).

f. Location: On Otter Creek in Rutland County, Vermont. The project does not occupy any federal land.

g. Filed Pursuant to: Federal Power Act, 16 U.S.C. 791(a)-825(r).

h. Applicant Contact: Mr. John Greenan, P.E., Green Mountain Power Corporation, 2152 Post Road, Rutland, VT 05701; Phone at (802) 770-2195, or email at John.Greenan@greenmountainpower.com.

i. FERC Contact: Taconya D. Goar at (202) 502-8394, or Taconya.Goar@ferc.gov.

j. Deadline for Filing Scoping Comments: July 6, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Center Rutland Hydroelectric Project (P-2445-028).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Center Rutland Hydroelectric Project consists of: (1) a 190-foot-long, 14-foot-high concrete and stone masonry gravity dam that includes: (a) a 174-foot-long spillway section with a crest elevation of 504.8 feet National Geodetic Vertical Datum of 1929 (NGVD 29); and (b) a 16-foot-long non-overflow section; (2) an impoundment with a surface area of 13 acres and a storage capacity of 30 acre-feet at an elevation of 507.4 feet NGVD 29; (3) a 13-foot-long, 7- to 30-foot-wide forebay; (4) a 39.58-foot-wide, 18-foot-high concrete and marble masonry intake structure with a 6.7-foot-wide, 6.5-foot-high steel headgate and a 30-foot-wide, 12-foot-high trashrack with 9/16-inch clear bar spacing; (5) a 6-foot-diameter, 75-foot-long steel penstock; (6) a 40-foot-long, 33-foot-wide stone and marble masonry powerhouse containing one 275-kilowatt horizontal-shaft turbine-generator; (7) a 480-volt/12.47-kilovolt (kv) transformer and 80-foot-long, 12.47-kV transmission line that interconnects with the local distribution grid; (8) a 0.35-mile-long fiber optic cable for smart grid communications with the electric system; and (9) appurtenant facilities.

The current license requires: (1) run-of-river operation, such that outflow from the project approximates inflow to the impoundment; (2) a minimum bypassed reach flow of 80 cubic feet per second (cfs) or inflow to the impoundment, whichever is less, from June 1 through October 15; and (3) a minimum flow release of 154 cfs or 90 percent of inflow to the impoundment, whichever is less, downstream of the powerhouse when refilling the impoundment following a drawdown for maintenance or emergencies.

The applicant proposes to: (1) continue operating the project in a run-of-river mode; (2) continue releasing a minimum bypassed reach flow of 80 cfs or inflow, whichever is less, from June 1 through October 15; (3) release a minimum bypassed reach flow of 40 cfs or inflow, whichever is less, from October 16 through May 31; (4) implement a seasonal clearing restriction from April 15 through October 31, for trees that are 4 inches in diameter or greater, to protect the federally threatened northern long-eared bat; (5) develop and implement a flow management and monitoring plan; and (6) develop and implement a historic properties management plan. In addition, the applicant proposes to reinstall the 2.3-foot-high flashboards, and develop a water quality monitoring study to test the release of the minimum bypassed reach flows after installing the flashboards.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process: Commission staff will prepare either an environmental assessment (EA) or an Environmental Impact Statement (EIS) that describes and evaluates the probable effects of the licensee's proposed action and alternatives. The EA or EIS will consider both site-specific and cumulative environmental impacts and reasonable alternatives to the proposed action. The Commission's scoping process will help determine the required level of analysis and satisfy the National Environmental Policy Act (NEPA) scoping requirements, irrespective of whether the Commission prepares an EA or an EIS.

At this time, we do not anticipate holding on-site scoping meetings. Instead, we are soliciting written comments and suggestions on the preliminary list of issues and alternatives to be addressed in the NEPA document, as described in scoping document 1 (SD1), issued June 6, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 6, 2022.
Kimberly D. Bose,
Secretary.

[FR Doc. 2022-12541 Filed 6-9-22; 8:45 am]

BILLING CODE 6717-01-P